ENVIRONMENTAL PROTECTION AGENCY

[ER-FRL-6677-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060125, ERP No. D-FRC-L05235-WA, Baker River Hydroelectric Project, Application to Relicense the Upper Baker and Lower Baker Developments, Mt. Baker-Snoqualmie National Forest, Baker River, Whatcom and Skagit Counties, WA.

Summary: Although EPA had no objections to the proposed project, EPA recommended that updated information be provided in the final EIS on the CWA 401 water quality certification. Rating LO.

EIS No. 20060160, ERP No. D-BPA-L08064-OR, Klondike III Wind Project (300 megawatts {MW}) and Biglow Canyon Wind Farm (400 megawatts {MW}) Integration Project, Construction and Operation of a Double-Circuit 230-Kilovolt (kV) Transmission, Sherman County, OR.

Summary: EPA expressed environmental concern about wetland impacts and requested additional information on tribal consultations and outcomes, and extent of public involvement in the project planning. Rating EC1.

EIS No. 20060163, ERP No. DB-COE-K36100-CA, American River Watershed Project, Post Authorization Decision Document, Folsom Dam Raise, Folsom Bridge Project, Propose to Construct a Permanent Bridge and Roadway across the American River, City of Folsom, Sacramento County, CA.

Summary: EPA expressed environmental concerns about impacts to air quality and requested additional information related to mitigation and partnerships with local transportation agencies to reduce the traffic impacts in the area. Rating EC2.

Final EISs

EIS No. 20060145, ERP No. F-COE-D35060-PA, Allegheny and Ohio Rivers Commercial Sand and Gravel Dredging Operations, Granting and Extending Permits for Continuance of Dredging and US Army COE Section 10 and 404 Permits Issuance, PA.

Summary: EPA continues to express environmental concerns about shallow river bottom impacts and CWA Section 404 issues. EPA requested the adoption of an adaptative management process, additional conceptual mitigation, and permit restrictions.

EIS No. 20060169, ERP No. F-FRC-C03015-00, Crown Landing Liquefied Natural Gas Terminal, Construct and Operate in Gloucester County, NJ and New Castle County, DE; and Logan Lateral Project, Construct and Operate a New Natural Gas Pipeline and Ancillary Facilities in Gloucester County, NJ and Delaware, PA.

Summary: While EPA has no objection to the proposed action, EPA did request clarification on mitigation plans for wetlands and shallow water habitat impacts, as well as a Clean Air Act General Conformity Analysis.

EIS No. 20060175, ERP No. F-FRC-G03029-LA, Creole Trail Liquefied National Gas (LNG) Terminal and Pipeline Project, Construction and Operation, Cameron, Calcasieu, Beauregard, Allen, Jefferson, Davis and Acadia Parishes, LA.

Summary: EPA expressed environmental concerns about uncertainties over the evaluation of dredged material and requested that a Record of Decision not be issued until these concerns are adequately addressed.

EIS No. 20060176, ERP No. F-FRC-G03028-00, Port Arthur Liquefied Natural Gas (LNG) Project, Construction and Operation, U.S. Army COE Section 10 and 404 Permits, (FERC/EIS-0182D), Jefferson and Orange Counties TX and Cameron, Calcasieu and Beauregard Parishes, LA.

Summary: EPA does not object to the preferred action.

EIS No. 20060202, ERP No. F-NOA-E86003-00, Snapper Grouper Fishery, Amendment 13C to the Fishery Management Plan, Phase Out Overfishing of Snowy Grouper, Golden Tilefish, Vermilion Snapper and Sea Bass, Implementation, South Atlantic Region.

Summary: EPA does not object to the proposed action.

EIS No. 20060210, ERP No. F-UAF-K11109-AZ, Barry M. Goldwater Range (BMGR), Integrated Natural Resources Management Plan (INRMP), Implementation, Yuma, Pima, and Maricopa Counties, AZ.

Summary: No formal comment letter was sent to the preparing agency.

EIS No. 20060224, ERP No. F-GSA-L80018-WA, Peace Arch Port of Entry Redevelopment Project, Improvements to Security, Safety and Functionality, Canadian Border in Blaine, Whatcom County, WA.

Summary: EPA's previous issues were resolved, therefore EPA does not object to the proposed action.

Dated: July 3, 2006.
Ken Mittelholtz,
Environmental Protection Specialist, Office of Federal Activities.

[FR Doc. E6-10678 Filed 7-6-06; 8:45 am]

BILLING CODE 6560-50-P